COMMISSION ON CIVIL RIGHTS

Notice of Public Meeting of the Florida Advisory Committee

AGENCY: U.S. Commission on Civil Rights.

ACTION: Notice of meeting.

SUMMARY: Notice is hereby given, pursuant to the provisions of the rules and regulations of the U.S. Commission on Civil Rights (Commission) and the Federal Advisory Committee Act that the Florida Advisory Committee will hold a meeting on Tuesday July 23, 2019; 10 a.m.-6 p.m. to hear testimony on Voter Suppression and Disenfranchisement Issues.

DATES: Tuesday, July 23, 2019; 10 a.m.-6 p.m. EST.

ADDRESSES: Broward County Main Library, 100 South Andrews Avenue, Fort Lauderdale, FL 33301.

FOR ADDITIONAL INFORMATION CONTACT: Jeff Hinton, GFO, at jhinton@usccr.gov or (312) 353-8311.

SUPPLEMENTARY INFORMATION: Members of the public are invited to come in and listen to the discussion. Written comments will be accepted until August 23, 2019 and may be mailed to the Regional Program Unit Office, U.S. Commission on Civil Rights, 230 S. Dearborn, Suite 2120, Chicago, IL 60604. They may also be faxed to the Commission at (312) 353-8324 or may be emailed to the Regional Director, Jeff Hinton at jhinton@usccr.gov. Records of the meeting will be available via www.facadatabase.gov under the Commission on Civil Rights, Florida Advisory Committee link. Persons interested in the work of this Committee are directed to the Commission's website, http://www.usccr.gov, or may contact the Southern Regional Office at the above email or street address.

Agenda

• Opening Remarks and Introductions (10 a.m.-10:15 a.m.)

Panel 1: (10:15 a.m.-11:15 a.m.)

Panel 2: (11:30 a.m.-12:30 p.m.)

• Open Public Comment (12:30 p.m.-1 p.m.)

• Break (1 p.m.-2:30 p.m.)

Panel 3: (2:30 p.m.-3:30 p.m.)

Panel 4: (3:45 p.m.-4:45 p.m.)

• Open Public Comment (5 p.m.-6 p.m.)

• Closing Remarks (6 p.m.)

Dated: July 9, 2019.
David Mussatt,
Supervisory Chief, Regional Programs Unit.

[FR Doc. 2019-14846 Filed 7-11-19; 8:45 am]

BILLING CODE 6335-01-P